DEPARTMENT OF HEALTH AND HUMAN SERVICES

Centers for Disease Control and Prevention

Disease, Disability, and Injury Prevention and Control Special Emphasis Panel (SEP): Breast and Prostate Cancer Data Quality and Patterns of Care Study, Request for Applications (RFA) DP-05-071

In accordance with Section 10(a)(2) of the Federal Advisory Committee Act (Pub. L. 92-463), the Centers for Disease Control and Prevention (CDC) announces the following meeting:

Name: Disease, Disability, and Injury Prevention and Control Special Emphasis Panel (SEP): Breast and Prostate Cancer Data Quality and Patterns of Care Study, Request for Applications (RFA) DP-05-071.

Times and Dates: 6:30 p.m.-9:30 p.m., July 27, 2005 (Closed), 8:30 a.m.-5:30 p.m., July 28, 2005 (Closed).

Place: Doubletree Hotel-Buckhead, 3342 Peachtree Road, NE., Atlanta, GA 30326, Telephone Number 404.231.1234.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to: Breast and Prostate Cancer Data Quality and Patterns of Care Study, Request for Applications (RFA) DP-05-071.

Contact Person for More Information: Gwen Cattledge, Ph.D., Scientific Review Administrator, National Center for Chronic Disease Prevention and Health Promotion, CDC, Chamblee Campus 4770 Buford Hwy, Mailstop K92, Atlanta, GA 30341, Telephone 770.488.4655.

The Director, Management Analysis and Services Office, has been delegated the authority to sign Federal Register notices pertaining to announcements of meetings and other committee management activities, for both CDC and the Agency for Toxic Substances and Disease Registry.

Dated: June 28, 2005.
Alvin Hall,
Director, Management Analysis and Services Office, Centers for Disease Control and Prevention.

[FR Doc. 05-13131 Filed 7-1-05; 8:45 am]

BILLING CODE 4163-18-P